FEDERAL COMMUNICATIONS COMMISSION

47 CFR Part 25

[IB Docket 06-160; DA 07-25]

Processing Applications in the Direct Broadcast Satellite Service; Feasibility of Reduced Orbital Spacing for Provision of Direct Broadcast Satellite Service in the United States

AGENCY: Federal Communications Commission.

ACTION: Proposed rule; extension of reply comment period.

SUMMARY: On August 18, 2006, the Commission released a Notice of Proposed Rulemaking (71 FR 56923, September 28, 2006) (NPRM) in the proceeding captioned above. The NPRM seeks comment from the public on proposed licensing procedures and service rules for satellites providing Direct Broadcast Satellite (DBS) service. The NPRM also seeks comment on licensing non-nine-degree-spaced DBS applications.

On December 22, 2006, SES Americom, Inc. filed a Motion for Extension of Time, requesting the Commission to extend the reply comment filing deadline in this proceeding. SES Americom, Inc. stated that an extension would enable the parties to the proceeding to provide a more complete record for review, considering the important policy and technical issues raised in the proceeding.

The Commission concurred that the issues raised in the proceeding are complex, technical, and of great importance to the DBS service and to direct-to-home satellite consumers throughout the United States. Thus, the Commission granted SES Americom, Inc.'s request, and extended the reply comment pleading deadline to January 25, 2007. The Commission stated that the public interest will be served by the extension to enable the filing of a more complete record in this proceeding.

Accordingly, pursuant to section 1.46 of the Commission's rules, 47 CFR 1.46, the request of SES Americom, Inc. is granted.

The deadline for filing reply comments in this proceeding is extended to January 25, 2007.

This action is taken under delegated authority pursuant to sections 0.51 and 0.261 of the Commission's rules, 47 CFR 0.51, 0.261.

Federal Communications Commission.
Robert G. Nelson,
Chief, Satellite Division, International Bureau.

[FR Doc. 07-213 Filed 1-23-07; 8:45 am]

BILLING CODE 6712-01-M